DEPARTMENT OF ENERGY

Federal Energy Regulatory Commission

[Docket No. RP00-404-000]

Northern Natural Gas Company; Notice of Technical Conference

December 20, 2000.

Take notice that a technical conference to further discuss the various issues raised by northern Natural Gas Company's Order No. 637 compliance filing will be held on Tuesday, January 23, 2001, and if necessary, Wednesday January 24, 2001, at 10:00 am, in a room to be designated at the offices of the Federal Energy Regulatory Commission, 888 First Street, NE., Washington, DC 20426.

All interested persons and Staff are permitted to attend.

David P. Boergers,
Secretary.

[FR Doc. 00-32902 Filed 12-26-00; 8:45 am]

BILLING CODE 6717-01-M